DEPARTMENT OF ENERGY

Federal Energy Regulatory Commission

[Docket No. CP07-451-000]

Black Bayou Storage, LLC; Notice of Intent To Prepare an Environmental Assessment for the Proposed Black Bayou Gas Storage Project and Request for Comments on Environmental Issues

October 12, 2007.

The staff of the Federal Energy Regulatory Commission (FERC or Commission) will prepare an environmental assessment (EA) that will discuss the environmental impacts of the Black Bayou Gas Storage Project involving construction and operation of facilities by Black Bayou Storage, LLC (BBS) in Cameron Parrish, Louisiana.

This notice announces the opening of the scoping process we will use to gather input from the public and interested agencies on the project. Your input will help the Commission staff determine which issues need to be evaluated in the EA. Please note that the scoping period will close on November 30, 2007.

This notice is being sent to affected landowners; federal, state, and local government representatives and agencies; environmental and public interest groups; Native American tribes; other interested parties in this proceeding; and local libraries and newspapers. We encourage government representatives to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility on My Land? What Do I Need To Know?” was attached to the project notice BBS provided to landowners. This fact sheet addresses a number of typically asked questions, including the use of eminent domain and how to participate in the Commission's proceedings. It is available for viewing on the FERC Internet Web site (www.ferc.gov).

Summary of the Proposed Project

BBS proposes to convert a depleted natural gas production field in Cameron Parish Louisiana located 15 miles west of Hackberry, Louisiana but includes north into Calcasieu Parish for a short distance. The storage field design capacity of each cavern would be approximately 10.4 billion cubic feet (Bcf) consisting of 7.5 Bcf of working capacity and up to 2.9 Bdf of cushion gas. The caverns would have approximately 1,200 million cubic feet (MMcf) of maximum daily injection capability and approximately 1,200 MMcf of maximum daily withdrawal capability. BBS seeks authority to construct and operate the following facilities:

• Two salt dome storage caverns;

• One 18,940 horsepower compressor station;

• One leaching plant;

• Five brine disposal wells on one common pad;

• Five water supply wells on five separate pads;

• One electrical substation;

• One 30-inch-diameter, 2.45-mile-long gas pipeline interconnect with Transcontinental Gas Pipeline Corporation (Transco) mainline;

• One 24-inch-diameter, 4.69-mile-long gas pipeline interconnect with planned Kinder Morgan mainline;

• One 20-inch-diameter, 0.10-mile-long cavern gas pipeline for Cavern No. 1;

• One 20-inch-diameter, 0.25-mile-long cavern gas pipeline for Cavern No. 2;

• One 8-inch-, 12-inch-, and 16-inch-diameter, 2.20 mile-long water pipeline system;

• One 16-inch-diameter, 1.43 mile-long brine pipeline system;

• One meter station and one separate tie-in facility for Transco's pipeline interconnect;

• One meter station with combined tie-in facilities for the Kinder Morgan pipeline interconnect; and

• One 0.25-mile-long access road for Cavern Nos. 1 and 2.

Certain facilities of Diasu Oil and Gas Company (Diasu) including a tank farm would need to be dismantled, relocated or removed before BBS constructs its proposed compressor station and leaching facility on the site of Diasu's current facilities.

The location of the project facilities is shown in Appendix 1.¹

¹ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Nonjurisdictional Facilities

Non-jurisdictional facilities that will be built as a result of the proposed project would include a 2.2 mile-long 230 kV electric powerline to be constructed by Entergy, Inc. (Entergy). The electric powerline would run between Entergy's existing 230 kV transmission line on the south bank of the Gulf Intracoastal Waterway and BBS's proposed electrical substation approximately 2,100 feet northwest of the Central Facility area. The electric powerline would require several environmental permits and approvals including state and federal authorization for work in waters of the U.S. (Coastal Use Permit) and clearances under the Endangered Species Act and the National Historic Preservation Act.

Land Requirements for Construction

Construction of the proposed facilities would require about 94.4 acres of land. Following construction, about 24.2 acres would be maintained as permanent pipeline right-of-way, new access roads, well sites, or new aboveground facility sites. The remaining 70.2 acres of land would be restored and allowed to revert to its former use.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ² will discuss impacts that could occur as a result of the construction and operation of the proposed project under these general headings:

² “We”, “us”, and “our” refer to the environmental staff of the Office of Energy Projects (OEP).

• Geology and soils

• Land use

• Water resources, fisheries, and wetlands

• Cultural resources

• Vegetation and wildlife

• Air quality and noise

• Endangered and threatened species

• Hazardous waste

• Public safety

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by BBS. This preliminary list of issues may be changed based on your comments and our analysis.

• Cultural resources may be affected by the project.

• The project would cross two major waterbodies: Black Bayou and the Gulf Intracoastal Waterway.

• About 62.2 acres of wetlands, open water, and other land uses would be impacted during construction by underground pipeline and cable facilities, and about 6.8 acres of wetland open water and other land uses would be impacted by above ground pipeline facilities.

• Two cavern well pads, electrical substation, part of the brine disposal well pad site, the Kinder Morgan meter station site, the Transco meter station, and Water Well Pad No. 1, would be constructed in marshland or open water and could potentially impact fisheries.

• Essential fish habitat for the brown shrimp, white shrimp, and red drum are likely to be of concern within the project area.

• The proposed project would encompass areas containing suitable nesting habitat for colonial wading birds.

Public Participation

You can make a difference by providing us with your specific comments or concerns about the project. By becoming a commentor, your concerns will be addressed in the EA/EIS and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to:

Kimberly D. Bose, Secretary, Federal Energy Regulatory Commission, 888 First St., NE., Room 1A, Washington, DC 20426.

• Label one copy of the comments for the attention of Gas Branch 2.

• Reference Docket No. CP07-451-000.

• Mail your comments so that they will be received in Washington, DC on or before November 30, 2007.

Please note that the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

If you do not want to send comments at this time but still want to remain on our mailing list, please return the Information Request (Appendix 3). If you do not return the Information Request, you will be taken off the mailing list.

Becoming an Intervenor

In addition to involvement in the EA scoping process, you may want to become an official party to the proceeding, an “intervenor”. To become an intervenor you must file a motion to intervene according to Rule 214 of the Commission's Rules of Practice and Procedure (18 CFR 385.214). Intervenors have the right to seek rehearing of the Commission's decision. Motions to Intervene should be electronically submitted using the Commission's eFiling system at www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Availability of Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Kimberly D. Bose,
Secretary.

[FR Doc. E7-20716 Filed 10-19-07; 8:45 am]

BILLING CODE 6717-01-P